SMALL BUSINESS ADMINISTRATION

[Declaration of Disaster #3415]

Commonwealth of Kentucky (Amendment #2)

In accordance with a notice received from the Federal Emergency Management Agency, dated May 10, 2002, the above numbered declaration is hereby amended to establish the incident period for this disaster as beginning on April 27, 2002 and continuing through May 10, 2002.

All other information remains the same, i.e., the deadline for filing applications for physical damage is July 6, 2002, and for economic injury the deadline is February 7, 2003.

(Catalog of Federal Domestic Assistance Program Nos. 59002 and 59008)
Dated: May 15, 2002.
Herbert L. Mitchell,
Associate Administrator for Disaster Assistance.

[FR Doc. 02-12882 Filed 5-22-02; 8:45 am]

BILLING CODE 8025-01-P